ENVIRONMENTAL PROTECTION AGENCY

[FRL-8338-1]

Notice of Proposed Administrative Cost Recovery Settlement Pursuant to the Comprehensive Environmental Response, Compensation, and Liability Act

AGENCY: Environmental Protection Agency.

ACTION: Notice; request for public comment.

SUMMARY: In accordance with section 122(i) of the Comprehensive Environmental Response, Compensation, and Liability Act, as amended (“CERCLA”), notice is hereby given of a proposed administrative cost recovery settlement under section 122(h)(1) of CERCLA concerning the Imel Battery and Lead Site in Fort Wayne, Indiana which was signed by the EPA Superfund Division Director, Region 5, on April 13, 2007. The settlement resolves EPA's claim for past costs under section 107(a) of CERCLA against Agnes Imel and Tyrone Sanders, the two current owners of the Site (Settling Parties).

EPA has determined that the Settling parties are financially able to pay a portion of EPA's past costs if Settling Parties sell certain real property at the Site. The settlement requires the Settling Parties to use their best efforts to sell the real property at the Site and to pay to the Hazardous Substances Superfund a percentage of the proceeds from the sale of the real estate minus reasonable closing costs. The payments are due within 30 days of the transfers. If both properties sell for approximately their fair market value, the Settling Parties' payments to the Hazardous Substances Superfund will be approximately $70,000.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, located at 77 West Jackson Boulevard, Seventh Floor, Chicago, Illinois.

DATES: Comments must be submitted on or before August 9, 2007.

ADDRESSES: The proposed settlement and additional background information relating to the settlement are available for public inspection at the Superfund Records Center, located at 77 West Jackson Boulevard, Seventh Floor, Chicago, Illinois. A copy of the proposed settlement may be obtained from the Superfund Records Center, located at 77 West Jackson Boulevard, Seventh Floor, Chicago, Illinois. Comments should reference the Imel Battery and Lead Site and EPA Docket No. VW-07-C872 and should be addressed to Randa Bishlawi, Associate Regional Counsel, 77 West Jackson Boulevard (C-14J), Chicago, Illinois 60604.

FOR FURTHER INFORMATION CONTACT: Randa Bishlawi, Associate Regional Counsel, 77 West Jackson Boulevard (C-14J), Chicago, Illinois 60604.

Dated: June 29, 2007.
Richard C. Karl,
Director, Superfund Divison, Region 5.

[FR Doc. E7-13341 Filed 7-9-07; 8:45 am]

BILLING CODE 6560-50-P